INTERNATIONAL TRADE COMMISSION

[Investigation No. 337-TA-1227]

Certain Routers, Access Points, Controllers, Network Management Devices, Other Networking Products, and Hardware and Software Components Thereof; Commission Determination Not To Review an Initial Determination Granting Complainant's Motion To Amend the Complaint and the Notice of Investigation

AGENCY: U.S. International Trade Commission.

ACTION: Notice.

SUMMARY: Notice is hereby given that the U.S. International Trade Commission has determined not to review an initial determination (“ID”) (Order No. 15) of the presiding administrative law judge (“ALJ”) granting the complainant's motion to amend the complaint and the notice of investigation to change the name of a respondent.

FOR FURTHER INFORMATION CONTACT: Michael Liberman, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On October 28, 2020, the Commission instituted this investigation under section 337 of the Tariff Act of 1930, as amended, 19 U.S.C. 1337 (“section 337”), based on a complaint filed by Q3 Networking LLC of Frisco, Texas (“Q3”). 85 FR 68367-68 (Oct. 28, 2020). The complaint alleges a violation of section 337 in the importation into the United States, the sale for importation, or the sale within the United States after importation of certain routers, access points, controllers, network management devices, other networking products, and hardware and software components thereof by reason of infringement of certain claims of U.S. Patent Nos. 7,457,627; 7,609,677; 7,895,305; and 8,797,853. The complaint also alleges the existence of a domestic industry. The notice of investigation names as respondents: CommScope Holding Company, Inc. of Hickory, North Carolina; CommScope, Inc. of Hickory, North Carolina; Arris US Holdings, Inc. of Suwanee, Georgia; Ruckus Wireless, Inc. of Sunnyvale, California; Hewlett Packard Enterprise Co. of Palo Alto, California; Aruba Networks, Inc. of Santa Clara, California; and Netgear, Inc. of San Jose, California. Id. at 68368. The Commission's Office of Unfair Import Investigations is not named as a party in this investigation. Id.

On February 4, 2021, complainant Q3 filed a motion to “amend the Complaint and Notice of Investigation to correct the corporate name of Respondent Aruba Networks, Inc. to Respondent Aruba Networks, LLC.” Mot. at 1. The motion states that respondents do not oppose the motion. Id. No response was filed.

On March 5, 2021, the ALJ issued the subject ID (Order No. 15) pursuant to Commission Rule 210.14(b)(1), 19 CFR 210.14(b)(1), granting complainant's motion. The ID finds that good cause exists to correct the name of respondent Aruba Networks, Inc. to Aruba Networks, LLC. ID at 2 (citations omitted). The ID further finds that this amendment would not prejudice the public interest or the rights of the parties to the investigation. Id. No party petitioned for review of the ID.

The Commission has determined not to review the subject ID. Named respondent Aruba Networks, Inc. is corrected to Aruba Networks, LLC.

The Commission vote for this determination took place on March 22, 2021.

The authority for the Commission's determination is contained in section 337 of the Tariff Act of 1930, as amended, 19 U.S.C. 1337, and in Part 210 of the Commission's Rules of Practice and Procedure, 19 CFR part 210.

By order of the Commission.
Issued: March 22, 2021.
Lisa Barton,
Secretary to the Commission.

[FR Doc. 2021-06199 Filed 3-24-21; 8:45 am]

BILLING CODE 7020-02-P